DEPARTMENT OF HOMELAND SECURITY

Coast Guard

33 CFR Part 165

[Docket No. USCG-USCG-2010-1063]

Safety Zones; Annual Firework Displays Within the Captain of the Port, Puget Sound Area of Responsibility

AGENCY: Coast Guard, DHS.

ACTION: Notice of enforcement of regulation.

SUMMARY: The Coast Guard will enforce the safety zones for annual firework displays in the Captain of the Port, Puget Sound area of responsibility on September 10, 2011 for the Mukilteo Lighthouse Festival in Possession Sound, WA and on December 3, 2011 for Chimes and Lights in Port Orchard, WA. This action is necessary to prevent injury and to protect life and property of the maritime public from the hazards associated with the firework displays. During the enforcement periods, entry into, transit through, mooring, or anchoring within these zones is prohibited unless authorized by the Captain of the Port, Puget Sound or Designated Representative.

DATES: The regulations in 33 CFR 165.1332 will be enforced from 5 p.m. on September 10, 2011 through 1 a.m. on September 11, 2011 and from 5 p.m. on December 3, 2011 through 1 a.m. on December 4, 2011.

FOR FURTHER INFORMATION CONTACT: If you have questions on this notice, call or e-mail ENS Anthony P. LaBoy, Sector Puget Sound Waterways Management, Coast Guard; telephone 206-217-6323, SectorPugetSoundWWM@uscg.mil.

SUPPLEMENTARY INFORMATION: The Coast Guard will enforce the safety zones established for Annual Fireworks Displays within the Captain of the Port, Puget Sound Area of Responsibility in 33 CFR 165.1332 during the dates and times noted below.

The following safety zone will be enforced from 5 p.m. on September 10, 2011 through 1 a.m. on September 11, 2011:

Event name | Location | Latitude | Longitude | Radius
Mukilteo Lighthouse Festival | Possession Sound | 47°56.9′ N | 122°18.6′ W | 300

The following safety zone will be enforced from 5 p.m. on December 3, 2011 through 1 a.m. on December 4, 2011:

Event name | Location | Latitude | Longitude | Radius
Chimes and Lights | Port Orchard | 47°32.75′ N | 122°38.033′ W | 300

All vessel operators who desire to enter the safety zone must obtain permission from the Captain of the Port or Designated Representative by contacting the Coast Guard Sector Puget Sound Joint Harbor Operations Center (JHOC) via telephone at (206) 217-6002.

The Coast Guard may be assisted by other Federal, State, or local law enforcement agencies in enforcing this regulation.

This notice is issued under authority of 33 CFR 165.1332 and 5 U.S.C. 552(a). In addition to this notice, the Coast Guard will provide the maritime community with extensive advanced notification of the safety zones via the Local Notice to Mariners and marine information broadcasts on the day of the events.

Dated: August 18, 2011.
S.J. Ferguson,
Captain, U.S. Coast Guard, Captain of the Port, Puget Sound.

[FR Doc. 2011-22769 Filed 9-6-11; 8:45 am]

BILLING CODE 9110-04-P